ENVIRONMENTAL PROTECTION AGENCY

[FRL-7257-9]

Agency Information Collection Activities: Continuing Collection; Comment Request; National Health Protection Survey of Beaches

AGENCY: Environmental Protection Agency.

ACTION: Notice.

SUMMARY: In compliance with the Paperwork Reduction Act (44 U.S.C. 3501 et seq.), this document announces that EPA is planning to submit the following continuing Information Collection Request (ICR) to the Office of Management and Budget (OMB) for review and approval: National Health Protection Survey of Beaches, EPA ICR Number 1814.02, OMB Control Number 2040-0189, expiration date 01/31/2003. Before submitting the ICR to OMB for review and approval, EPA is soliciting comments on specific aspects of the proposed information collection as described below.

DATES: Comments must be submitted on or before October 15, 2002.

ADDRESSES: Send or deliver comments to the following addresses: Mr. Rick Hoffmann, Office of Water, Office of Science and Technology, Standards and Health Protection Division (4305T), 1200 Pennsylvania Avenue, Washington, DC 20460. Location for Hand Delivery: EPA West (Connecting Wing, Room 5233LL, 1301 Constitution Avenue, NW., Washington, DC. Interested persons may obtain a copy of the ICR without charge by contacting EPA staff listed in the section below.

FOR FURTHER INFORMATION CONTACT: Mr. Rick Hoffmann at EPA, (202) 566-0388, by email at hoffmann.rick@epa.gov, or facsimile at 202-566-0409. Or download a copy of the ICR off the Internet at http://www.epa.gov/icr and refer to EPA ICR No. 1814.02.

SUPPLEMENTARY INFORMATION: Title: National Health Protection Survey of Beaches (OMB Control No. 2040-0189; EPA ICR No. 1814.02; expiring 01/31/03).

Abstract: Bacterial and other microbiological contaminants continue to pose potentially serious human health problems for the Nation's recreational waters, including bathing beaches. These adverse effects have been one of EPA's long-standing concerns. They are directly related to such Clean Water Act responsibilities as water quality standards and surface water quality, and to the Agency's efforts to ensure that the waters of the United States are “fishable” and “swimmable.” In response to this concern, EPA initiated its annual National Health Protection Survey of Beaches (Beach Survey) starting in 1997. This voluntary nationwide survey collects, and makes available to the public, information related to beach water quality including: monitoring agency and organization, monitoring and public notification procedures and responsibilities; water quality standards; advisories and closings; and reasons for advisories and closings.

Currently, all beach information collected by EPA is obtained through the Beach Survey. However, EPA plans to significantly reduce the amount of information collected through the survey and instead obtain this information through grants to state and local governments awarded under the authority of the Beaches Environmental Assessment and Coastal Health (BEACH) Act. Since the information will be collected either through the Beach Survey or BEACH Act grants (but not both), there will be no duplication of effort and the net burden will be the same.

An Information Collection Request for the BEACH Act grant program has been approved by the Office of Management and Budget (EPA ICR Number 2048.01, OMB Control Number 2040-0244). Congress passed the BEACH Act in October 2000. The BEACH Act amended the Clean Water Act by adding section 406 “Coastal Recreation Water Monitoring and Notification.” Section 406(b) authorizes EPA to make grants to States and local governments to develop and implement programs for monitoring and public notification for coastal recreation waters adjacent to beaches or similar points of access that are used by the public, if the State or local government satisfies the requirements of the BEACH Act. Several of these requirements require a grant awardee to collect and submit information to EPA as a condition of receiving a grant. Section 406(b) requires a grant awardee to identify the factors that the awardee uses to prioritize use of the grant funds, and a list of waters that will be monitored using grant funds. Section 406(b) also requires that a grant awardee's program be consistent with the grant program performance criteria established by EPA under section 406(a). EPA published these program performance criteria on July 19, 2002 (Federal Register: July 19, 2002 (67 FR 47540)). EPA needs information from the grant awardee to determine if the monitoring and notification programs are consistent with these criteria. Section 406(b) of the Clean Water Act also requires a grant awardee to submit a report to EPA that describes the data collected as part of a monitoring and notification program, and the actions taken to notify the public when water quality standards are exceeded. Section 406(c) of the Clean Water Act requires a grant awardee to identify lists of coastal recreation waters, processes for States to delegate to local governments the responsibility for implementing a monitoring and notification program, and the content of the monitoring and notification program. The information is required of States and local governments that seek to obtain BEACH Act funding. It allows EPA to properly review State and local governments' monitoring and notification programs to determine if they are eligible for BEACH Act grant funding. This information also enables EPA to fulfill its obligations to make this information available to the public as required by sections 406(e) and (g).

This BEACH Act requirement will greatly reduce the amount of information collected by the National Health Protection Survey of Beaches. However, there is still a need to conduct a limited survey. EPA proposes to send its voluntary survey to those agencies that are not eligible for BEACH grants. For example, agencies responsible for monitoring inland recreational waters are not eligible to receive grants under the BEACH Act. EPA proposes to continue collecting information about these inland waters because they are an important concern. For example, the National Health Protection Survey of Beaches for the 2001 swim season received information about more than 600 inland beaches. Approximately 23% of these beaches were under advisory or closed at least once during the swim season due to the potential risk of bacteriological contamination. Therefore, water quality at inland bathing beach areas remains an important concern to EPA. If an eligible state decides not to apply for a grant, EPA would send its voluntary surveys to appropriate agencies. EPA will ensure that these surveys are not sent to agencies receiving beach grants.

The annual Beach Survey will be sent to appropriate environmental health officials from State, tribal, county, and city agencies, as well as representatives from various interest groups. It will obtain and verify information on the location and condition of swimming beaches and the agencies and persons responsible for maintaining and issuing advisories or closings for those beaches. Responses to the questionnaire will be gathered either on paper questionnaires or electronically via the Internet.

EPA will assemble the information into an electronic database and that can be readily analyzed and shared with responsible parties (e.g., EPA program and regional offices, other federal, state, tribal, county, and city agencies), as well as the public. The nationwide collection of information is conducted annually, with an average estimated number of respondents of approximately 300 agencies in the first year, declining to an estimated 50 agencies in the third year. The estimated annual cost for the survey per respondent is anticipated to decrease each year, since respondents will only be requested to provide information that has changed during the year.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility and clarity of the information to be collected; and

(iv) Minimize the burden of the collection of information on those who are to respond, including through the use of appropriate automated electronic, mechanical, or other technological collection techniques or other forms of information technology, e.g., permitting electronic submission of responses.

Burden Statement: The annual public reporting and record keeping burden for this collection of information is estimated to average 2.4 hours per response. For the first year of the survey covered by this Information Collection Request it is estimated that 300 surveys will be completed. During the second and third years of the survey covered by this ICR it is estimated that 50 surveys will be received each year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

This burden estimate assumes that there will be a major drop in current participants due to reporting of data through BEACH Act grants. However. there may be a very gradual increase in the inland, freshwater beach participants as interest increases in the survey.

Respondents/Affected Entities: Entities potentially affected by this action are State, County, City, and Tribal representative with responsibilities for assessing the impact of water contaminated by microbiological pollutants on persons using beaches and related recreational waters.

Comments: You may submit comments by mail, e-mail, or delivered by hand to the addresses shown in the ADDRESSES section of this notice.

Dated: August 2, 2002.
Geoffrey H. Grubbs,
Director, Office of Science and Technology.

[FR Doc. 02-20450 Filed 8-12-02; 8:45 am]

BILLING CODE 6560-50-P